DEPARTMENT OF JUSTICE

Antitrust Division

Notice Pursuant to The National Cooperative Research and Production Act of 1993—National Armaments Consortium

Notice is hereby given that, on July 7, 2023, pursuant to section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Action Engineering, LLC, Golden, CO; Adolf Meller Co dba Meller Optics Inc, Providence, RI; Applied Energetics, Inc., Tuscon, AZ; Arnouse Digital Devices, Corp., Lake Success, NY; Autonomous Defense Technologies Corp. (Swarm Aero), Oxnard, CA; Beacon Industries, Inc., Newington, CT; Beehive Industries, LLC, Englewood, CO; Bering Global Solutions, LLC, Anchorage, AK; Black River Systems Company, Inc., Utica, NY; Brown Technologies, Inc., Huntsville, AL; Compotech, Inc., Brewer, ME; Desert Tech LLC, West Valley City, UT; Disablement Technologies and Consulting LLC, Fredericksburg, VA; ECS Federal, LLC, Fairfax, VA; Falcon Dancer Incorporated, Huntsville, AL; Hunting Titan, Inc., Pampa, TX; InDyne, INC., Sterling, VA; Marvell Government Solutions, LLC, Burlington, VT; Michigan Technological University, Houghton, MI; R. Stresau Laboratory, Inc., Spooner, WI; Signature Solutions, Inc., Huntsville, AL; Task Aerospace, Inc., Mesa, AZ; TMC Design, Corp., Las Cruces, NM; Trusted Semiconductor Solutions, Inc., Brooklyn Park, MN; and Wave Motion Launch Corp., Everett, WA, have been added as parties to this venture.

No other changes have been made in either the membership or planned activity of the group research project. Membership in this group research project remains open, and NAC intends to file additional written notifications disclosing all changes in membership.

On May 2, 2000, NAC filed its original notification pursuant to section 6(a) of the Act. The Department of Justice published a notice in the Federal Register pursuant to section 6(b) of the Act on June 30, 2000 (65 FR 40693).

The last notification was filed with the Department on April 10, 2023 . A notice was published in the Federal Register pursuant to section 6(b) of the Act on June 12, 2023 (88 FR 38098).

Suzanne Morris,
Deputy Director Civil Enforcement Operations, Antitrust Division.

[FR Doc. 2023-20772 Filed 9-25-23; 8:45 am]

BILLING CODE P